ENVIRONMENTAL PROTECTION AGENCY

[EPA-HQ-OPP-2013-0150; FRL-9389-4]

Agency Information Collection Activities; Proposed Collection; Comment Request

AGENCY: Environmental Protection Agency (EPA).

ACTION: Notice.

SUMMARY: In compliance with the Paperwork Reduction Act (PRA), this document announces that EPA is planning to submit an Information Collection Request (ICR) to the Office of Management and Budget (OMB). The ICR, titled “Requirements for Certified Applicators Using 1080 Collars for Livestock Protection” and identified by EPA ICR No. 1249.09 and OMB Control No. 2070-0074 represents the renewal of an existing ICR that is scheduled to expire on March 31, 2014. Before submitting the ICR to OMB for review and approval, EPA is soliciting comments on specific aspects of the proposed information collection that is summarized in this document. The ICR and accompanying material are available in the docket for public review and comment.

DATES: Comments must be received on or before September 16, 2013.

ADDRESSES: Submit your comments, identified by docket identification (ID) number EPA-HQ-OPP-2013-0150, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.htm.

Additional instructions on commenting or visiting the docket, along with more information about dockets generally, is available at http://www.epa.gov/dockets.

FOR FURTHER INFORMATION CONTACT: Rame Cromwell, Field and External Affairs Division (7506P), Office of Pesticide Programs, Environmental Protection Agency, 1200 Pennsylvania Ave. NW., Washington, DC 20460-0001; telephone number: (703) 308-9068; fax number: (703) 305-5884; email address: cromwell.rame@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What information collection activity or ICR does this action apply to?

Title: Requirements for Certified Applicators Using 1080 Collars for Livestock Protection.

ICR number: EPA ICR No. 1249.09.

OMB control number: 2070-0074.

ICR status: This ICR is currently scheduled to expire on March 31, 2014. An Agency may not conduct or sponsor, and a person is not required to respond to, a collection of information, unless it displays a currently valid OMB control number. The OMB control numbers for EPA's regulations in title 40 of the Code of Federal Regulations (CFR), after appearing in the Federal Register when approved, are listed in 40 CFR part 9, are displayed either by publication in the Federal Register or by other appropriate means, such as on the related collection instrument or form, if applicable. The display of OMB control numbers for certain EPA regulations is consolidated in 40 CFR part 9.

Abstract: This ICR potentially affects non-federal Certified Applicators in three States (New Mexico, South Dakota, and Wyoming), the State lead agencies for pesticide regulation in those States that monitor the program and are themselves registrants of 1080 Livestock Protection Collar products, and one additional registrant. EPA also receives annual reports on use of a 1080 Livestock Protection Collar product registered to the U.S. Department of Agriculture, Animal and Plant Health Inspection Service (USDA/APHIS). That product is applied in several States by employees of USDA/APHIS. Applicators who are certified to apply livestock protection collars are required to keep records of: (a) The number of collars attached on livestock; (b) the pastures where collared livestock were placed; (c) the dates of each attachment, inspection, and removal; (d) the number and locations of livestock found with ruptured or punctured collars and the apparent cause of the damage; (e) the number, dates, and approximate location of all collars lost; and (f) the species, locations, and dates of all suspected poisonings of humans, domestic animals or non-target wild animals resulting from collar use.

Burden statement: The annual public reporting and recordkeeping burden for this collection of information is estimated to average 40 hours per response. Burden is defined in 5 CFR 1320.3(b).

The ICR, which is available in the docket along with other related materials, provides a detailed explanation of the collection activities and the burden estimate that is only briefly summarized here:

Respondents/Affected Entities: Entities potentially affected by this ICR are pesticide and other agricultural manufacturers (NAICS 325320), e.g., pesticide registrants whose products include 1080 collars; and government establishments primarily engaged in administration of environmental quality programs (NAICS 9241) e.g., States implementing a 1080 collar monitoring program.

Estimated total number of potential respondents: 48.

Frequency of response: Annual.

Estimated total average number of responses for each respondent: 1.

Estimated total annual burden hours: 1,944 hours.

Estimated total annual costs: $83,335. This includes an estimated burden cost of $83,335 and an estimated cost of $0 for capital investment or maintenance and operational costs.

III. Are there changes in the estimates from the last approval?

There is no change of 1,944 hours in the total estimated respondent burden compared with that identified in the ICR currently approved by OMB.

IV. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the person listed under FOR FURTHER INFORMATION CONTACT.

List of Subjects

Environmental protection, Reporting and recordkeeping requirements.

Dated: July 3, 2013.
James Jones,
Acting Assistant Administrator, Office of Chemical Safety and Pollution Prevention.

[FR Doc. 2013-17024 Filed 7-16-13; 8:45 am]

BILLING CODE 6560-50-P